DEPARTMENT OF LABOR

Employment and Training Administration

[NAFTA-5397]

Connolly North America, El Paso, TX; Negative Finding Regarding Qualification as a Secondary Firm Pursuant to the Statement of Administrative Action Accompanying the North American Free Trade Agreement (NAFTA) Implementation Act

The Department of labor hererin presents the results of an investigation regarding qualification as a secondarily impacted firm, pursuant to the Statement of Administrative Action accompanying the North American Free Trade Agreement (NAFTA) Implementation Act.

The workers of Connolly North America, El Paso, Texas were denied eligibility to apply for NAFTA-TAA (NAFTA-5397). Pursuant to that determination, an investigation was conducted in order to determine whether the workers qualify as secondarily impacted as suppliers to or finishers or processors for a firm primarily affected by increased imports from or a shift in production to Mexico or Canada.

In order for an affirmative finding to be made, the following requirements must be met:

(1) The subject firm must be a supplier of a firm that is directly affected by imports from Mexico or Canada or shifts in production to those countries; or

(2) The subject firm must assemble or finish products made by a directly-impacted firm; and

(3) The loss of business with the directly-affected firm must have contributed importantly to worker separations at the subject firm.

The investigation revealed that criteria (1) and (2) have not been met.

The petitioners assert that a major customer switched their purchases of leather and leather products from the subject firm in favor of producing the leather and leather products at the customer's affiliated location in Mexico.

The subject firm workers were engaged in activities related to production to leather and leather products (used by the automotive industry, i.e., seating components). The investigation found that the customer has not been certified under NAFTA-Transitional Adjustment Assistance and therefore is not a directly-impacted firm.

Based on this evidence, I determine that with respect to workers of Connolly North America, El Paso, Texas, such workers do not qualify as secondarily affected pursuant to the Statement of Administrative Action accompanying the North American Free Trade Agreement Implementation Act.

For further information on assistance under Title I of the Workforce Investment Act which may be available to workers included under this determination, contact: Ms. Barbara Cigainero, Director, Workforce Development, Texas Workforce Commission, 101 E. 15th Street, Austin, Texas 78778-001, Phone: (512) 463-7747, FAX: (512) 463-2799, E-Mail: Barbara.cigainero@twe.state.tx.us

Signed at Washington, DC, this 15th day of April 2002.
Edward A. Tomchick,
Director, Division of Trade Adjustment Assistance.

[FR Doc. 02-12405 Filed 5-6-02; 8:45 am]

BILLING CODE 4510-30-M